DEPARTMENT OF AGRICULTURE

Agricultural Research Service

Soliciting Comments on a Draft Outline of a Strategic Plan for Extension of Comment Period

AGENCY: Agricultural Research Service, Department of Agriculture (USDA).

ACTION: Request for public comments; extension of comment period.

SUMMARY: The Subcommittee on Aquaculture (SCA) is extending the comment period on the document is published on March 3, 2022, seeking public comment on a draft outline of the Strategic Plan for Aquaculture Economic Development (SPAED), and information on a planned update to the 1983 National Aquaculture Development Plan (NADP).

DATES: The comment period for FR Doc. 2022-04444, published at 87 FR 12074 on March 3, 2022, is extended. Comments must be received by April 15, 2022, to be assured of consideration.

ADDRESSES: The draft outline of the SPAED can be downloaded at www.ars.usda.gov/sca/. Address all comments concerning the SPAED and topics to be covered in the NADP to:

• Electronic Submissions: Submit electronic public comments to AquacultureEcoDev@usda.gov; or

• Mail: Gabriela McMurtry, Attn: Aquaculture Economic Development Plan Comments, Office of Policy, F/AQ, 1315 East-West Highway, 14th Floor, Silver Spring, MD 20910.

Comments sent by any other method, to any other address or individual, or received after the end of the comment period, may not be considered. All comments received are part of the public record and will be made available for public viewing upon request. All personal identifying information (e.g., name, address, etc.), confidential business information, or other sensitive information submitted voluntarily by the sender will be publicly accessible.

SUPPLEMENTARY INFORMATION: The Subcommittee on Aquaculture (SCA) is seeking public comment on a draft outline of the Strategic Plan for Aquaculture Economic Development (SPAED), and information on a planned update to the 1983 National Aquaculture Development Plan (NADP). The SCA is a statutory subcommittee that operates under the Committee on Environment of the National Science and Technology Council (NSTC) under the Office of Science and Technology Policy in the Executive Office of the President [National Aquaculture Act of 1980 (Pub. L. 96-362. 94 Stat. 1198, 16 U.S.C. 2801, et seq.) and the National Aquaculture Improvement Act of 1985 (Pub. L. 99-198, 99 Stat. 1641)]. In May of 2020, the SCA established a Task Force charged with developing the SPAED, and this Task Force is seeking public comment on a draft outline regarding the goals and objectives to be included. The draft outline is available at https://www.ars.usda.gov/SCA/. In addition, the National Aquaculture Act of 1980 required select federal agencies to develop, and update as necessary, the NADP. Last completed in 1983, the NADP describes aquaculture associated technologies, problems, and opportunities in the United States and its territories. It recommends actions to solve problems, and analyzes the social, environmental, and economic impacts of growth in aquaculture. As announced in the Federal Register in August 2021, the SCA is updating the NADP, which will incorporate by reference the final and any subsequent updated versions of the National Strategic Plan for Aquaculture Research (NSPAR), the Strategic Plan to Enhance Regulatory Efficiency in Aquaculture (SPEREA), and the SPAED. The NSPAR and the SPEREA are in the final stages of review. Draft versions can be found at www.ars.usda.gov/sca, where final versions will be posted once approved. The SCA is seeking comments on additional topics to be covered in the NADP.

Signed at Washington, DC, March 29, 2022.
Yvette Anderson,
Federal Register Liaison Officer, ARS, ERS, NASS.

[FR Doc. 2022-06874 Filed 3-31-22; 8:45 am]

BILLING CODE 3410-03-P